DEPARTMENT OF AGRICULTURE

Animal and Plant Health Inspection Service

[Docket No. APHIS-2012-0113]

Gypsy Moth Program; Record of Decision

AGENCY: Animal and Plant Health Inspection Service, USDA.

ACTION: Notice.

SUMMARY: We are advising the public of our record of decision for the final supplemental environmental impact statement for the Gypsy Moth Program.

DATES: Effective Date: April 22, 2013.

ADDRESSES: You may read the final supplemental environmental impact statement and the record of decision in our reading room. The reading room is located in room 1141 of the USDA South Building, 14th Street and Independence Avenue SW., Washington, DC. Normal reading room hours are 8 a.m. to 4:30 p.m., Monday through Friday, except holidays. To be sure someone is there to help you, please call (202) 799-7039 before coming. The documents are also available on the Internet at http://na.fs.fed.us/pubs/detail.cfm?id=5251. To obtain copies of the documents, contact the person listed under FOR FURTHER INFORMATION CONTACT.

FOR FURTHER INFORMATION CONTACT: Ms. Julie Spaulding, Plant Protection and Quarantine, APHIS, 4700 River Road, Riverdale, MD 20737; (301) 851-2184.

SUPPLEMENTARY INFORMATION:

Background

On April 29, 2004, the United States Department of Agriculture's (USDA) Forest Service and Animal and Plant Health Inspection Service (APHIS) published a notice in the Federal Register (69 FR 23492-23493) announcing the agencies' proposal to add the insecticide tebufenozide (trade name Mimic) to their list of treatments for the control of gypsy moth. In addition to the proposal to add tebufenozide, the agencies also proposed developing a process for adding other insecticides that are currently unidentified and unregistered insecticides, not available at the current time, that may become available in the future to their list of treatments for control of gypsy moth, if the proposed insecticides are within the range of effects and acceptable risks for the existing list of treatments. The notice also announced that the agencies would prepare a supplemental environmental impact statement (SEIS) to the November 1995 final environmental impact statement (EIS), Gypsy Moth Management in the United States: A Cooperative Approach (see 60 FR 61698).

A notice of availability for the draft SEIS was initially published by the Environmental Protection Agency (EPA) in the Federal Register on September 19, 2008 (73 FR 54397, Docket No. ER-FRL-8585-7), and a notice of availability regarding the final SEIS was published by EPA in the Federal Register on October 19, 2012 (77 FR 64334, Docket No. ER-FRL-9005-6). The National Environmental Policy Act (NEPA) implementing regulations in 40 CFR 1506.10 require a minimum 30-day waiting period between the time a final EIS is published and the time an agency makes a decision on an action covered by the EIS. The Forest Service and APHIS have reviewed the final SEIS and comments received during the 30-day waiting period and have concluded that the final SEIS fully analyzes the issues covered by the draft SEIS and the comments and suggestions submitted by commenters. Based on our final SEIS, the responses to public comments, and other pertinent scientific data, the Forest Service and APHIS have prepared a record of decision.

The record of decision has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 17th day of April 2013.
Kevin Shea,
Acting Administrator, Animal and Plant Health Inspection Service.

[FR Doc. 2013-09395 Filed 4-19-13; 8:45 am]

BILLING CODE 3410-34-P